DEPARTMENT OF TRANSPORTATION

Federal Aviation Administration

14 CFR Part 71

[Airspace Docket No. 99-ANM-10]

Modification of Class E Airspace, St. George, UT

AGENCY: Federal Aviation Administration (FAA), DOT.

ACTION: Final rule.

SUMMARY: This action modifies the St. George, UT, Class E airspace to accommodate airspace required for the establishment of a new Standard Instrument Approach Procedure (SIAP) to the St. George Municipal Airport, St. George, UT.

EFFECTIVE DATE: 0901 UTC, March 22, 2001.

FOR FURTHER INFORMATION CONTACT: Brian Durham, ANM-520.7, Federal Aviation Administration, Docket No. 99-ANM-10, 1601 Lind Avenue SW, Renton, Washington 98055-4056: telephone number: (425) 227-2527.

SUPPLEMENTARY INFORMATION:

History

On September 21, 2000, the FAA proposed to amend Title 14 Code of Federal Regulations, part 71 (14 CFR part 71) by modifying Class E airspace at St. George, UT, in order to accommodate a new Area Navigation (RNAV) SIAP to Runway 34 at St. George Municipal Airport, St. George, UT (65 FR 184). This amendment provides additional Class E5 airspace at St. George, UT, to meet current criteria standards associated with the SIAP. Interested parties were invited to participate in the rulemaking proceeding by submitting written comments on the proposal. No comments were received.

The Rule

This amendment to Title 14 Code of Federal Regulations, part 71 (14 CFR part 71) modifies Class E airspace at St. George, UT, in order to accommodate a new SIAP to the St. George Municipal Airport, St. George, UT. This amendment modifies Class E5 airspace at St. George, UT, to meet current criteria standards associated with the SIAP. The FAA establishes Class E airspace where necessary to contain aircraft transitioning between the terminal and enroute environments. This rule is designed to provide for the safe and efficient use of the navigable airspace and to promote safe flight operations under Instrument Flight Rules (IFR) at the St. George Municipal Airport and between the terminal and enroute transition stages.

The area will be depicted on aeronautical charts for pilot reference. The coordinates for this airspace docket are based on North American Datum 83. Class E airspace areas extending upward from 700 feet or more above the surface of the earth, are published in Paragraph 6005, of FAA Order 7400.9H dated September 1, 2000, and effective September 16, 2000, which is incorporated by reference in 14 CFR 71.1. The Class E airspace designation listed in this document will be published subsequently in the Order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 6005 Class E airspace areas extending upward from 700 feet or more above the surface of the earth

* * * * *

ANM UT E5 St. George, UT [Revised]

St. George Municipal Airport, UT

(Lat. 37°05′26″N., long. 113°35′35″W.)

St. George VOR/DME

(Lat. 37°05′17″N., long. 113°35′31″W.)

That airspace extending upward from 700 feet above the surface within 8.3 miles northeast and 5.3 miles southwest of the St. George VOR/DME 131° and 311° radials extending from 6.1 miles northwest to 16.1 miles southeast, and within 5.9 miles each side of the St. George VOR/DME 183° radial extending from the VOR/DME to 18.2 miles south; and that airspace extending upward from 1,200 feet above the surface within the 30-mile radius of lat. 36°48′52″N., long. 113°35′37″W., extending clockwise from 256° bearing to the 076° bearing, and within 30 miles radius of lat. 36°48′53″N., long. 113°43′06″W., extending clockwise from the 076° bearing to the 166° bearing of lat. 36°48′52″N., long. 113°35′37″W., and within 30 miles radius of lat. 36°48′52″N., long. 113°29′24″W., extending counterclockwise from the 256° bearing to the 166° bearing of lat. 36°48′52″N., long. 113°35′37″W.; excluding that portion of airspace within the Colorado City, AZ, 700 and 1,200 feet Class E airspace area; that portion of airspace within the Mesquite, NV, 700 feet Class E airspace; that portion of airspace for V-235 southeast of the Mormon Mesa VORTAC that portion of airspace for V-235 northeast of the Mormon Mesa VORTAC; that portion of airspace for V-21 northeast of the Mormon Mesa VORTAC.

* * * * *

Issued in Seattle, Washington, on January 31, 2001.
Dan A. Boyle,
Assistant Manager, Air Traffic Division, Northwest Mountain Region.

[FR Doc. 01-3647 Filed 2-12-01; 8:45 am]

BILLING CODE 4910-13-M